DEPARTMENT OF TRANSPORTATION

Federal Aviation Administration

14 CFR Part 39

[Docket No. FAA-2015-1935; Directorate Identifier 2014-SW-008-AD; Amendment 39-18374; AD 2016-01-15]

RIN 2120-AA64

Airworthiness Directives; Agusta S.p.A. Helicopters

AGENCY: Federal Aviation Administration (FAA), DOT.

ACTION: Final rule.

SUMMARY: We are adopting a new airworthiness directive (AD) for Agusta S.p.A. (Agusta) Model AB139 and AW139 helicopters. This AD requires visually inspecting certain subfloor frames for a crack. This AD was prompted by reports of cracks on in-service helicopters. The actions of this AD are intended to detect or prevent a crack in the subfloor frame, which could result in failure of the pilot and co-pilot pedal support frame and subsequent loss of control of the helicopter.

DATES: This AD is effective February 25, 2016.

The Director of the Federal Register approved the incorporation by reference of a certain document listed in this AD as of February 25, 2016.

ADDRESSES: For service information identified in this rule, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 10101 Hillwood Pkwy., Room 6N-321, Fort Worth, TX 76177.

Examining the AD Docket

You may examine the AD docket on the Internet at http://www.regulations.gov by searching for and locating Docket No. FAA-2015-1935 or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, Rotorcraft Directorate, FAA, 10101 Hillwood Pkwy., Fort Worth, TX 76177; telephone (817) 222-5110; email robert.grant@faa.gov.

SUPPLEMENTARY INFORMATION:

Discussion

On June 5, 2015, at 80 FR 32072, the Federal Register published our notice of proposed rulemaking (NPRM), which proposed to amend 14 CFR part 39 by adding an AD that would apply to Agusta Model AB139 and AW139 helicopters, serial number (S/N) 31005 through 31517 (except S/N 31007, 31415, 31431, 31491, 31500, 31508, and 31516) and S/N 41001 through 41356 (except S/N 41355). The NPRM proposed to require visually inspecting certain subfloor frames for a crack. The proposed requirements were intended to detect or prevent a crack in the subfloor frame, which could result in failure of the pilot and co-pilot pedal support frame and subsequent loss of control of the helicopter.

The NPRM was prompted by AD No. 2014-0048, dated March 4, 2014, issued by EASA, which is the Technical Agent for the Member States of the European Union, to correct an unsafe condition for Agusta Model AB139 and AW139 helicopters with a S/N 31005 through 31517 (except S/N 31007, 31415, 31431, 31491, 31500, 31508, and 31516) and S/N 41001 through 41356 (except S/N 41355). EASA advises that cracks have been reported in the subfloor frame at station (STA) 2105 on in-service helicopters. This condition, if not detected and corrected, could lead to failure of the pedals supporting the frame, which in turn could lead to the pedals being inoperative and subsequent loss of control of the helicopter, EASA advises.

The EASA AD requires repetitive inspections of the subfloor frame at STA 2105 for a crack. The EASA AD also requires installation of frame reinforcements before further flight if there is a crack or within 1,200 flight hours if there is no crack. The EASA AD provides that installation of the frame reinforcements constitutes terminating action for the repetitive inspections required by the AD.

Since the NPRM was issued, the FAA Southwest Regional Office has relocated and a group email address has been established for requesting an FAA Alternative Method of Compliance (AMOC) for a helicopter of foreign design. This AD contains the current physical address of the FAA Southwest Regional Office and the new email address for requesting an AMOC.

Comments

We gave the public the opportunity to participate in developing this AD, but we received no comments on the NPRM (80 FR 32072, June 5, 2015).

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD requires conducting the initial inspection within 30 flight hours or 2 months, whichever occurs first, and thereafter, at intervals not to exceed 300 flight hours or 6 months, whichever occurs first. This AD requires conducting the initial inspection within 30 hours time-in-service (TIS), and thereafter, at intervals not to exceed 300 hours TIS.

Related Service Information Under 1 CFR Part 51

We reviewed AgustaWestland Bolletino Tecnico No. 139-311, Revision B, dated June 4, 2014 (BT), for certain serial-numbered Agusta Model AB139 and AW139 helicopters. The BT calls for visual inspections of the subfloor frames within 30 flight hours or two months, whichever occurs first, and thereafter at intervals of 300 flight hours or 6 months, whichever comes first, until frame reinforcements are installed to prevent future failures. The BT also specifies installing the frame reinforcements immediately if a crack is found and within 1,200 flight hours if a crack is not found. This service information is reasonably available because the interested parties have access to it through their normal course of business or by the means identified in the ADDRESSES section.

Costs of Compliance

We estimate that this AD affects 102 U.S.-registered helicopters and that labor costs average $85 a work hour. Based on these estimates, we expect the following costs:

• The visual inspection requires 2 work-hours for a labor cost of $170 per helicopter. No parts are needed, so the cost totals $170 per helicopter, $17,340 for the U.S. fleet.

• If there are no cracks, installing the frame reinforcements requires 240 work-hours for a labor cost of $20,400 and $2,274 for parts. The total cost is $22,674 per helicopter.

• If there is a crack, installing the frame reinforcements requires 240 work-hours for a labor cost of $20,400 and $3,401 for parts. The total cost is $23,801 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-01-15 Agusta S.p.A.: Amendment 39-18374; Docket No. FAA-2015-1935; Directorate Identifier 2014-SW-008-AD.

(a) Applicability

This AD applies to Agusta S.p.A. Model AB139 and AW139 helicopters, serial number (S/N) 31005 through 31517 (except S/N 31007, 31415, 31431, 31491, 31500, 31508, and 31516) and S/N 41001 through 41356 (except S/N 41355), certificated in any category.

(b) Unsafe Condition

This AD defines the unsafe condition as a crack in a subfloor frame. This condition could result in failure of the pilot and co-pilot pedal support frame and subsequent loss of control of the helicopter.

(c) Effective Date

This AD becomes effective February 25, 2016.

(d) Compliance

You are responsible for performing each action required by this AD within the specified compliance time unless it has already been accomplished prior to that time.

(e) Required Actions

(1) Within 30 hours time-in-service (TIS) and thereafter at intervals not to exceed 300 hours TIS, using a light, inspect all visible surfaces of the left hand subfloor frame, right hand subfloor frame, and middle subfloor frame at station (STA) 2105 for a crack as shown in Figures 10 through 13 of AgustaWestland Bollettino Tecnico No. 139-311, Revision B, dated June 4, 2014 (BT 139-311).

(2) If there is a crack, before further flight, install frame STA 2105 retromod part number (P/N) 3G5306P47211 by following the Compliance Instructions, Part II, paragraphs 7 through 7.10. of BT 139-311.

(3) If there are no cracks, within 1200 hours TIS, install frame STA 2105 retromod P/N 3G5306P47211 by following the Compliance Instructions, Part II, paragraphs 7 through 7.10. of BT 139-311.

(4) Installing frame STA 2105 retromod P/N 3G5306P47211 terminates the repetitive inspection requirements in paragraph (e)(1) of this AD.

(f) Special Flight Permits

Special flight permits are prohibited.

(g) Alternative Methods of Compliance (AMOCs)

(1) The Manager, Safety Management Group, FAA, may approve AMOCs for this AD. Send your proposal to: Robert Grant, Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD No. 2014-0048, dated March 4, 2014. You may view the EASA AD on the Internet at http://www.regulations.gov in Docket No. FAA-2015-1935.

(i) Subject

Joint Aircraft Service Component (JASC) Code: 5300, Fuselage Structure (General).

(j) Material Incorporated by Reference

(1) The Director of the Federal Register approved the incorporation by reference of the service information listed in this paragraph under 5 U.S.C. 552(a) and 1 CFR part 51.

(2) You must use this service information as applicable to do the actions required by this AD, unless the AD specifies otherwise.

(i) AgustaWestland Bollettino Tecnico No. 139-311, Revision B, dated June 4, 2014.

(ii) Reserved.

(3) For Agusta S.p.A. service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 6, 2016.
Bruce E. Cain,
Acting Manager, Rotorcraft Directorate, Aircraft Certification Service.

[FR Doc. 2016-00659 Filed 1-20-16; 8:45 am]

BILLING CODE 4910-13-P